DEPARTMENT OF THE TREASURY

Submission for OMB Review; Comment Request

July 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 26, 2002 to be assured of consideration.

Special Instructions: The draft Suspicious Activity Report Money Services Businesses (SAR-MSB) form published in this Federal Register notice is for informational purposes only. Do not use the draft form to report suspicious activity. It is anticipated that the form will be final and available for use on October 1, 2002. Until that time, Money Services Businesses are to continue to use the Bank SAR form, Form TD F 90-22.47. See, 66 FR 67086 (December 28,2001) for further information about using the Bank SAR form until the final SAR-MSB form is available.

Money Services Businesses reporting possible terrorist financing suspicious activity must file a SAR as indicated above, but should also contact FinCEN's Financial Institutions Hotline ((866) 556-3974) to report the activity.

Contact FINCEN's Regulatory HelpLine at (800) 949-2732, if you have a question about the draft form.

Visit FinCEN's Internet site at www.treas/fincen.gov for a downloadable version of the draft SAR-MSB. Call FinCEN's Regulatory HelpLine ((800) 949-2732) after September 15, 2002, for individual copies of the form. Visit FinCEN's Internet site after September 15, 2002, for information about obtaining bulk copies of the form. Magnetic media filing specifications for filing the MSB SAR magnetically should be available on FinCEN's Internet site by December 31, 2002.

Financial Crimes Enforcement Network (FinCEN)

OMB Number: 1506-0015.

Form Number: TD F 90-22.56.

Type of Review: Revision.

Title: Reports by Money Services Businesses of Suspicious Transactions.

Description: Treasury is requiring certain money services businesses—money transmitters and money order and traveler's checks issuers, sellers, and redeemers—to report suspicious transactions.

Respondents: Business or other for-profit.

Estimated Number of Respondents/Recordkeepers: 30,000.

Estimated Burden Hours Per Respondent/Recordkeeper: 40 minutes.

Estimated recordkeeping/filing per response—5 minutes

Estimated record (SAR) completion time—35 minutes

Frequency of Response: On occasion.

Estimated Total Reporting/Recordkeeping Burden: 20,000 hours.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Departmental Reports, Management Officer.

BILLING CODE 4810-02-P

[FR Doc. 02-18828 Filed 7-24-02; 8:45 am]

BILLING CODE 4810-02-C